DEPARTMENT OF HOMELAND SECURITY

[Docket No. DHS-2018-0049]

Homeland Security Science and Technology Advisory Committee

AGENCY: Science and Technology Directorate, DHS

ACTION: Committee management; notice of open Federal Advisory Committee meeting.

SUMMARY: The Homeland Security Science and Technology Advisory Committee (HSSTAC) will meet in-person with the option to join via webinar on Thursday, September 13, 2018. The meeting will be open to the public.

DATES: The HSSTAC meeting will take place Thursday, September 13, 2018 from 9:30 a.m. to 5:30 p.m.

The meeting may close early if the committee has completed its business.

Due to security requirements, pre-registration is required for this event. Please see the “REGISTRATION” section below.

ADDRESSES: The in-person meeting will be held at 1120 Vermont Ave. NW, 8th Floor, Washington, DC 20005. To participate via webinar or for additional information on the webinar, please see the REGISTRATION section below.

You may send comments, identified by docket number DHS-2018-0049 by one of the following methods:

• Federal eRulemaking Portal: http://www.regulations.gov. Follow the instructions for submitting comments.

• Email: hsstac@hq.dhs.gov. Include the docket number in the subject line of the message.

• Fax: 202-254-6176.

• Mail: Michel Kareis, HSSTAC Designated Federal Official, S&T IAO, STOP 0205, Department of Homeland Security, 245 Murray Lane, Washington, DC 20528-0205.

Instructions: All submissions received must include the words “Department of Homeland Security” and the docket number. Comments received will be posted without alteration at http://www.regulations.gov.

Docket: For access to the docket to read the background documents or comments received by the HSSTAC, go to http://www.regulations.gov and enter the docket number into the search function: DHS-2018-0049.

For information on services for individuals with disabilities or to request special assistance at the meeting, please contact the individual listed in the FOR FURTHER INFORMATION CONTACT section as soon as possible.

FOR FURTHER INFORMATION CONTACT: Michel Kareis, HSSTAC Designated Federal Official, Science and Technology Directorate (S&T) Interagency Office (IAO), STOP 0205, Department of Homeland Security, 245 Murray Lane, Washington, DC 20528-0205, 202-254-8778 (Office), 202-254-6176 (Fax), HSSTAC@hq.dhs.gov (Email).

SUPPLEMENTARY INFORMATION:

I. Background

Notice of this meeting is given under the Federal Advisory Committee Act (FACA), 5 U.S.C. Appendix (Pub. L. 92-463). The committee addresses areas of interest and importance to the Senior Official Performing the Duties of the Under Secretary, such as new developments in systems engineering, cyber-security, knowledge management and how best to leverage related technologies funded by other Federal agencies and by the private sector. It also advises the Under Secretary on policies, management processes, and organizational constructs as needed.

II. Registration

If you plan to attend the meeting in-person, you must RSVP by September 12, 2018. To register for the meeting, email HSSTAC@hq.dhs.gov with the following subject line: “RSVP to HSSTAC Meeting.” The email should include the name(s), title, organization/affiliation, email address, and telephone number of those interested in attending.

To pre-register for the webinar, please send an email to HSSTAC@hq.dhs.gov with the following subject line: “RSVP to HSSTAC Meeting.” The email should include the name(s), title, organization/affiliation, email address, and telephone number of those interested in attending. You must RSVP by September 12, 2018.

III. Public Comment

At the end of the open session, there will be a thirty minute period for oral statements. The public is limited to 2 minutes per speaker. Please note that the comments period may end before the time indicated, following the last call for oral statements. To register as a speaker, contact the person listed in the FOR FURTHER INFORMATION CONTACT section.

To facilitate public participation, we invite public comment on the issues to be considered by the committee as listed in the “Agenda” below. Anyone is permitted to submit comments at any time, including orally at the meeting. However, those who would like their comments reviewed by committee members prior to the meeting must submit them in written form no later than September 10, 2018 per the instructions in the ADDRESSES section above.

Agenda: Both of the in-person and webinar sessions will begin at 9:30 with remarks from the Designated Federal Official, Michel Kareis, and the Committee Chair, Dr. Vincent Chan. Next, the Senior Official Performing the Duties of the Under Secretary for Science and Technology, Bill Bryan will provide an overview of his priorities and new developments including updates on the Science and Technology Operating Model Blue Print and a discussion on proposed HSSTAC tasking.

The afternoon session will begin with an emerging technology discussion and subcommittee updates. Information will be provided by the Social Media Working Group for Emergency Services and Disaster Management Subcommittee (SMWGESDM), Technology Scouting Partnerships Subcommittee, and the Commercialization Subcommittee.

There will be a discussion on new topics for the Social Media Working Group for Emergency Services and Disaster Management Subcommittee including future technology shifts and trends in using social media to support disaster management. The final session of the day will be on updates to the whitepapers from the Quadrennial Homeland Security Review Subcommittee along with discussions on technology trends and innovations that impact S&T and DHS mission space.

At the end of the open session, there will be a thirty minute period for oral statements. The public is limited to 2 minutes per speaker. Please note that the comments period may end before the time indicated, following the last call for oral statements.

Meeting materials and the final meeting agenda will be posted on the following website by September 4, 2018: https://www.dhs.gov/science-and-technology/hsstac.

Dated: August 15, 2018.
Michel Kareis,
Designated Federal Official for the HSSTAC.

[FR Doc. 2018-18559 Filed 8-27-18; 8:45 am]

BILLING CODE 9110-9F-P